DEPARTMENT OF HEALTH AND HUMAN SERVICES

Substance Abuse and Mental Health Services Administration

Agency Information Collection Activities Under Emergency Review by the Office of Management and Budget

The Substance Abuse and Mental Health Services Administration (SAMHSA) has submitted the following request (see below) for emergency OMB review under the Paperwork Reduction Act (44 U.S.C. Chapter 35). OMB approval has been requested by October 12, 2007. A copy of the information collection plans may be obtained by calling the SAMHSA Reports Clearance Officer on (240) 276-1243.

Title: 2008 National Survey on Drug Use and Health—(OMB No. 0930-0110).

OMB Number: 0930-0110.

Frequency: Annual.

Affected Public: Individuals or Households.

The National Survey on Drug Use and Health (NSDUH), formerly the National Household Survey on Drug Abuse (NHSDA), is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

This Federal Register notice is revised to reflect additional information that will be collected for the 2008 NSDUH. At the request of the Office of National Drug Control Policy (ONDCP), additional questions are being developed to measure marijuana consumption in the general population. This information could be useful in evaluating drug control programs, as discussed in “Informing America's Policy on Illegal Drugs: What We Don't Know Keeps Hurting Us,” a report by the National Research Council.

Since the first Federal Register notice (published on May 3, 2007), a condensed version of the 16-item World Health Organization Disability Assessment Scale (WHO-DAS) has also been proposed for the Mental Health Module. A series of analyses was performed which examined the measurement properties of the 16-item scale with the goal of reducing the scale to a condensed version. [Item Response Analyses of the World Health Organization Disability Assessment Schedule (WHODAS), SAMHSA, 2007 (unpublished)] These analyses resulted in an 8-item scale which captures the information represented in the full scale. The questions for recruiting respondents for the follow-up clinical interview have also been revised to include a request for the respondent's e-mail address.

The Notice that was published on May 3, 2007 included the following information for the 2008 NSDUH. Additional questions are being planned regarding suicide ideation and impairment from mental health issues. An embedded split-sample study is being planned to determine which one of two mental health disability scales to include in future NSDUH survey years. The two disability scales will be evaluated by using the SCID-I/NP as a follow-up interview with a subsample of respondents.

Other questionnaire changes include deletion of questions about Hurricanes Katrina and Rita, adoption of a reduced set of income questions which were tested in 2006 and 2007, and routing of Adderall, Ambien, Ketamine, DMT, AMT, “Foxy” and salvia divinorum users into the questions on drug dependence and abuse.

As with all NSDUH/NHSDA surveys conducted since 1999, the sample size of the survey for 2008 will be sufficient to permit prevalence estimates for each of the fifty States and the District of Columbia. The respondent burden will remain at 60 minutes per interview. The total annual burden estimate is shown below:

Activity | Number of respondents | Number of responses per respondent | Average burden hours per respondent | Total burden hours
Household Screening | 182,250 | 1 | .083 | 15,127
Interview | 67,500 | 1 | 1.0 | 67,500
Clinical Follow-up Certification | 150 | 1 | 1.0 | 150
Clinical Follow-up | 1,500 | 1 | 1.0 | 1,500
Screening Verification | 5,494 | 1 | .067 | 368
Interview Verification | 10,125 | 1 | .067 | 678
Total | 182,250 |  |  | 85,323

Emergency approval is being requested because ONDCP has asked SAMHSA to add questions to measure marijuana consumption in the general population. Because of these additional questions, this Federal Register notice is a revision from the one that was published on May 3, 2007.

Written comments and recommendations concerning the proposed information collection should be sent within 30 days of this notice to: John Kraemer, Human Resources and Housing Branch, Office of Management and Budget, New Executive Office Building, Room 10235, Washington, DC 20503; due to potential delay in OMB's receipt and processing of mail sent through the U.S. Postal Service, respondents are encouraged to submit comments by fax to: 202-395-6974.

Dated: July 31, 2007.
Elaine Parry,
Acting Director, Office of Program Services.

[FR Doc. E7-15126 Filed 8-2-07; 8:45 am]

BILLING CODE 4162-20-P